DEPARTMENT OF DEFENSE

Office of the Secretary

[Transmittal No. 23-0B]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 23-0B.

Dated: September 9, 2024.
Aaron T. Siegel,
Alternate OSD Federal Register Liaison Officer, Department of Defense.

BILLING CODE 6001-FR-P

BILLING CODE 6001-FR-C

Transmittal No. 23-0B

REPORT OF ENHANCEMENT OR UPGRADE OF SENSITIVITY OF TECHNOLOGY OR CAPABILITY (SEC. 36(B)(5)(C), AECA)

(i) Purchaser: Government of Japan

(ii) Sec. 36(b)(1), AECA Transmittal No.: 19-65

Date: October 29, 2019

Implementing Agency: Air Force

(iii) Description: On October 29, 2019, Congress was notified by Congressional certification transmittal number 19-65 of the possible sale, under Section 36(b)(1) of the Arms Export Control Act, of the upgrade of up to ninety-eight (98) F-15J aircraft to a Japanese Super Interceptor (JSI) configuration consisting of up to one hundred three (103) APG-82(v)1 Active Electronically Scanned Array (AESA) Radar (includes 5 spares); one hundred sixteen (116) Advanced Display Core Processor II (ADCP II) Mission System Computer (includes 19 spares); and one hundred one (101) ALQ-239 Digital Electronic Warfare System (DEWS) (includes 3 spares). Also included were Joint Mission Planning System (JMPS) with software, training and support; Selective Availability Anti-spoofing Module (SASSM); ARC-210 radio, aircraft and munition integration and test support; ground training devices (including flight and maintenance simulators); support and test equipment; software delivery and support; spare and repair parts; communications equipment; facilities and construction support; publications and technical documentation; personnel training and training equipment; U.S. Government and contractor engineering; technical and logistics support services; studies and surveys; and other related elements of logistical and program support. The estimated total program cost was $4.5 billion. Major Defense Equipment (MDE) constituted $2.4 billion of this total.

On July 26, 2022, Congress was notified by Congressional certification transmittal number 22-0K of the possible sale, under Section 36(b)(5)(C) of the Arms Export Control Act, of one hundred three (103) AN/ALQ-250 Eagle Passive Active Warning Survivability System (EPAWSS) electronic warfare suites. The total cost of new MDE articles was $956 million. This did not increase the total net cost of MDE, which remained $2.4 billion. The total case value did not increase, remaining $4.5 billion.

This transmittal notifies the addition of the following MDE items: up to one (1) Instrumented Test Vehicle; two (2) JASSM AGM-158 Separation Test Vehicles; two (2) JASSM AGM-158 Jettison Test Vehicles; two (2) JASSM AGM-158 Captive Carry Flight Test Vehicles; two (2) AGM-158 Inert JASSMs; and one hundred three (103) Embedded Global Positioning System/Inertial Navigation System (GPS/INS) (EGI) devices with M-code technology. The total cost of new MDE articles is $41 million. The total net cost of MDE remains $2.4 billion. The total net cost of non-MDE remains $2.1 billion. The total case value remains $4.5 billion.

(iv) Significance: The inclusion of this MDE represents an increase in capability over what was previously notified. The proposed articles and services will assist Japan in developing and maintaining a strong and effective self-defense capability.

(v) Justification: This proposed sale will support the foreign policy goals and national security objectives of the United States by improving the security of a major ally that is a force for political stability and economic progress in the Asia-Pacific region.

(vi) Sensitivity of Technology:

The AGM-158B/B-2 Joint Air-to-Surface Standoff Missile with Extended Range (JASSM-ER) is a low-observable, highly survivable, subsonic cruise missile designed to penetrate next-generation air defense systems in route to target. The JASSM-ER is designed to kill hard, medium-hardened, soft and area-type targets. A turbo-fan engine and reconfigured fuel tanks provide added capacity. This potential sale will only include testing and training munitions.

a. The AGM-158/B-2 system capabilities include all the capabilities of the AGM-158/B. The AGM-158/B-2 configuration has different internal components to address multiple obsolescence issues as well as subcomponent updates to position for GPS M-Code and other potential upgrades.

b. The AGM-158 Instrumented Test Vehicle (ITV) is a flight certification vehicle equipped with an intelligent Test Instrumentation Kit (iTIK). The ITV collects airworthiness data to ensure safe separation of the munition from the aircraft.

c. The JASSM AGM-158 Separation Test Vehicle (STV), equipped with iTIK, collects separation data during airworthiness/flight certification.

d. The JASSM Jettison Test Vehicle (JTV) is used during the airworthiness data collection process to ensure safe jettison of the munition from the aircraft. It provides pilot captive-carry training with recording capability for post-release data analysis.

e. The JASSM AGM-158 Captive Carry Flight Test Vehicle, equipped with iTIK, has an inert warhead and fuze and an anti-jam GPS receiver. It is used solely for captive carry testing, conducted in the U.S.

f. The AGM-158 Inert JASSM, equipped with iTIK, has an inert warhead and fuze and an anti-jam GPS receiver. It is used for live launch testing, conducted in the U.S.

The M-Code capable Embedded Global Positioning System/Inertial Navigation System (GPS/INS) (EGI), with an embedded GPS Precise Positioning Service (PPS) Receiver Application Module-Standard Electronic Module (GRAM-S/M), is a self-contained navigation system that provides acceleration, velocity, position, attitude, platform azimuth, magnetic and true heading, altitude, body angular rates, time tags, and coordinated universal time (UTC) synchronized time. The embedded GRAM-S/M enables access to both the encrypted P(Y) and M-Code signals, providing protection against active spoofing attacks, enhanced military exclusivity, integrity, and anti-jam.

The highest level of classification of defense articles, components, and services included in this potential sale is SECRET.

(vii) Date Report Delivered to Congress: February 28, 2023

[FR Doc. 2024-20736 Filed 9-11-24; 8:45 am]

BILLING CODE 6001-FR-P